NATIONAL CREDIT UNION ADMINISTRATION

Agency Information Collection Activities: Submission to OMB for Reinstatement, With Change, of a Previously Approved Collection

AGENCY: National Credit Union Administration (NCUA).

ACTION: Request for comment.

SUMMARY: The NCUA is submitting the following information collection to the Office of Management and Budget (OMB) for reinstatement under the Paperwork Reduction Act of 1995. Notice of this information collection is published to obtain comments from the public. Under the Home Mortgage Disclosure Act (HMDA), financial institutions that meet the reporting criteria must compile and make available data about their housing-related lending activity. The data is made available to the public for the purposes of: (1) Helping to determine whether financial institutions are serving the housing needs of their communities; (2) assisting public officials in distributing public-sector investment so as to attract private investment to areas where it is needed; and (3) assisting in identifying possible discriminatory lending patterns and enforcing anti-discrimination statutes. The information collection will assist NCUA to ensure credit unions are in compliance with fair lending laws and regulations.

DATES: Comments will be accepted until September 27, 2013.

ADDRESSES: Interested parties are invited to submit written comments to the NCUA contact and OMB reviewer listed below:

NCUA Contact: Tracy Crews, National Credit Union Administration, 1775 Duke Street, Alexandria, Virginia 22314-3428, Fax No. 703-837-2861, Email: OCIOPRA@ncua.gov.

OMB Contact: ATTN: Desk Officer for the National Credit Union Administration, Office of Management and Budget, Office of Information and Regulatory Affairs, Washington, DC 20503.

FOR FURTHER INFORMATION CONTACT: Requests for additional information or a copy of the information collection request, or a copy of submitted comments should be directed to Tracy Crews at the National Credit Union Administration, 1775 Duke Street, Alexandria, VA 22314-3428, or at (703) 518-6444.

SUPPLEMENTARY INFORMATION: Proposal for the following collection of information:

I. Abstract and Request for Comments

NCUA is reinstating the information collection previously approved under OMB control number 3133-0166. Under HMDA, depository institutions that have a home office or branch office located within a metropolitan statistical area must compile and make available to the public the number and total dollar amount of mortgage loans originated (or for which the institution received completed applications) or purchased during each year. 12 U.S.C. 2801 et seq. The Consumer Financial Protection Bureau implements HMDA under Regulation C, 12 CFR part 1003. Regulation C requires financial institutions and mortgage lending institutions to report data about home purchase loans and refinancings that originated or purchased, or for which applications were received, and to disclose the data to the public.

Under this information collection, credit unions meeting the criteria described in HMDA and Regulation C must compile, report, and make available data about home purchase loans and refinancings they originate, purchase, or for which they receive applications. The data is made available to the public to help to determine whether credit unions, along with other financial institutions and other mortgage lenders, are serving the housing needs of their members and to assist public officials in distributing public-sector investment so as to attract private investment to areas where it is needed. Additionally, federal regulators use the data to identify possible discriminatory lending patterns and enforce antidiscrimination statutes.

Specifically, NCUA uses HMDA data to examine credit union compliance with the Equal Credit Opportunity Act and the Fair Housing Act. NCUA also uses the data to report credit union lending practices to Congress and the public. The Federal Financial Institutions Examination Council compiles the data and makes it available to the public annually to carry out the purposes of HMDA.

NCUA is requesting reinstatement of OMB control number 3133-0166, with changes in the estimated burden due to an increase in the number of reporting credit unions and the cost of the technology used to submit the information. Since the initial approval of the information collection, the number of credit unions involved in mortgage lending has increased slightly from 1,996 credit unions to 2,015 credit unions. The estimated cost of the information collection has been adjusted to reflect the cost of programmatic modifications associated with increased number of respondents and the use of technology. The increase in the number of respondents caused a corresponding increase in the estimated burden hours associated with the collection, even though NCUA estimates the time per reportable loan application necessary to submit the information collection will not change.

NCUA requests that you send your comments on this collection to the location listed in the addresses section. Your comments should address: (a) The necessity of the information collection for the proper performance of NCUA, including whether the information will have practical utility; (b) the accuracy of our estimate of the burden (hours and cost) of the collection of information, including the validity of the methodology and assumptions used; (c) ways we could enhance the quality, utility, and clarity of the information to be collected; and (d) ways we could minimize the burden of the collection of the information on the respondents such as through the use of automated collection techniques or other forms of information technology. It is NCUA's policy to make all comments available to the public for review.

II. Data

Title: HMDA Requirements under 12 U.S.C. 2801-2810 and Regulation C, 12 CFR part 1003.

OMB Number: 3133-0166.

Form Number: NONE.

Type of Review: Reinstatement, with change, of a previously approved collection.

Description: The collection of this data is required under the Home Mortgage Disclosure Act. The data collection is intended to provide the public with loan data that can be used (1) To help determine whether financial institutions are serving the housing needs of their communities; (2) to assist public officials in distributing public-sector investments so as to attract private investment to areas where it is needed; and (3) to assist in identifying possible discriminatory lending patterns and enforcing anti-discrimination statutes.

Respondents: Credit unions.

Estimated No. of Respondents/Record keepers: 2,015.

Estimated Burden Hours per Response: 47.25 hours.

Frequency of Response: Record-keeping, Third party disclosure and Reporting Annually.

Estimated Total Annual Burden Hours: 95,210 hours.

Estimated Total Annual Cost: $1,428,150.

By the National Credit Union Administration Board on August 22, 2013.
Gerard Poliquin,
Secretary of the Board.

[FR Doc. 2013-20929 Filed 8-27-13; 8:45 am]

BILLING CODE 7535-01-P